DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Exotic Endangered Cats of the World, Gibsonton, FL. PRT-798412.

The applicant requests a permit to re-export and re-import captive born leopard (Panthera pardus), black leopard (Panthera pardus delacouri), Amur leopard (Panthera pardus orientalis), snow leopard (Uncia uncia), tiger (Panthera tigris), Bengal tiger (Panthera tigris tigris), Siberian tiger (Panthera tigris altaica), and progeny of the animals currently held by the applicant and any animals acquired in the United States by the applicant to/from worldwide locations to enhance the survival of the species through conservation education.

This notification covers activities conducted by the applicant over a three year period.

Applicant: Hawthorne Corporation, Grays Lake, IL. PRT-835641.

The applicant requests a permit to re-export and re-import captive born tiger (Panthera tigris) and progeny of the animals currently held by the applicant and any animals acquired in the United states by the applicant to/from worldwide locations to enhance the survival of the species through conservation education. This notification covers activities conducted by the applicant over a three year period.

Applicant: Wildlife Conservation Society/Field Veterinary Program, Bronx, NY, PRT-033594.

The applicant requests a permit to import multiple shipments of biological samples from wild, captive-held, or captive born endangered species for the purpose of scientific research. No animals can be intentionally killed for the purpose of collecting specimens. Any invasively collected samples can only be collected by trained personnel. This notification covers activities conducted by the applicant over a period of 5 years.

Applicant: The Zoological Society of San Diego, San Diego, CA, PRT-778487.

The applicant requests reissuance of their permit for scientific research with three captive-born giant pandas (Ailuropoda melanoleuca) currently held under loan agreement with the Government of China under the provisions of the USFWS Panda Policy. The proposed research will cover aspects of behavior, reproductive physiology, genetics, and animal health. This notification covers activities conducted by the applicant over a period of 5 years.

Applicant: Chicago Zoological Park (Bookfield Zoo), Brookfield, IL, PRT-770279.

The applicant requests a permit to import biological samples from wild, captive-held, or captive born black-handed spider monkey (Ateles geoffroyi frontatus and Ateles geoffroyi panamensis) from Mexico and Central America, for the purpose of scientific research. This notification covers activities conducted by the applicant over a period of 5 years.

Written data, comments, or requests for copies of these complete applications or requests for a public hearing on these applicants should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: Ronald J. Jameson, USGS, Biological Resources Division, Corvallis, OR, PRT-777239.

Permit Type: Take for scientific research.

Name and Number of Animals: Sea otter (Enhydra lutirs), 30 over 2 years.

Summary of Activity to be Authorized: The applicant has requested an amendment to his permit to take liver biopsy samples at time of surgical implant of TDR transmitter packages by scalpel or biopsy punch for biomarker assays, contaminant residue analysis and histopathology.

Source of Marine Mammals: Washington State coastal waters.

Period of Activity: Up to 2 years, if issued.

Concurrent with the publication of this notice in the Federal Register, the Division of Management Authority is forwarding copies of the above applications to the Marine Mammal Commission and the Committee of Scientific Advisors for their review.

The U.S. Fish and Wildlife Service has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone (703/358-2104); Fax: (703/358-2281).

Dated: June 18, 2001.
Michael S. Moore,
Senior Permit Biologist, Branch of Permits, Division of Management Authority.

[FR Doc. 01-16175 Filed 6-26-01; 8:45 am]

BILLING CODE 4310-55-M